DEPARTMENT OF EDUCATION

Applications for New Awards; Demonstration Grants for Indian Children and Youth Program—Native American Teacher Retention Initiative; Correction

AGENCY: Office of Elementary and Secondary Education, Department of Education.

ACTION: Notice; correction.

SUMMARY: On May 23, 2023, the Department of Education (Department) published in the Federal Register a notice inviting applications (NIA) for new awards for fiscal year (FY) 2023 for the Demonstration Grants for Indian Children and Youth Program—Native American Teacher Retention Initiative (NATRI), Assistance Listing Number (ALN) 84.299A. We are correcting the NIA to be clear that a Tribal college or university (TCU) is eligible to apply. All other information in the NIA remains the same.

DATES: This correction is applicable July 14, 2023.

FOR FURTHER INFORMATION CONTACT: Donna Bussell, U.S. Department of Education, 400 Maryland Avenue SW, Room 3W239, Washington, DC 20202. Telephone: (202) 453-6813. Email: donna.bussell@ed.gov.

If you are deaf, hard of hearing, or have a speech disability and wish to access telecommunications relay services, please dial 7-1-1.

SUPPLEMENTARY INFORMATION: On May 23, 2023, the Department published the NATRI NIA in the Federal Register (88 FR 33098). In the NIA, we included a list of eligible applicants that failed to include TCUs. Under section 6121(b) of the Elementary and Secondary Education Act of 1965, as amended (ESEA), a TCU is an eligible entity and should have been included. Therefore, for clarity, as well as consistency with the competitive preference priority for Tribal lead applicants, we are correcting the list of eligible applicants in the NIA by adding TCUs.

All other information in the NIA remains the same.

Correction

In FR Doc. 2023-10901 appearing on page 33102 in the Federal Register published on May 23, 2023 (88 FR 33098), we make the following correction:

On page 33102, in the middle column, under heading “III. Eligibility Information,” and paragraph 1 “Eligible Applicants,” we are revising the eligible entities to include “(f) Tribal college or university (TCU).”

Program Authority: 20 U.S.C. 7441.

Accessible Format: On request to the program contact person listed under FOR FURTHER INFORMATION CONTACT, individuals with disabilities can obtain this notice, the NIA, and a copy of the application in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at this site.

You may also access documents of the Department published in the Federal Register by using the article search feature at www.federalregister.gov. Specifically, through the advanced search feature at this site, you can limit your search to documents published by the Department.

James F. Lane,
Principal Deputy Assistant Secretary Delegated the Authority to Perform the Functions and Duties of the Assistant Secretary Office of Elementary and Secondary Education.

[FR Doc. 2023-14928 Filed 7-13-23; 8:45 am]

BILLING CODE 4000-01-P